DEPARTMENT OF HOMELAND SECURITY

Coast Guard

33 CFR Part 165

[Docket No. USCG-2014-0334]

Safety Zones; Annual Events in the Captain of the Port Detroit Zone

AGENCY: Coast Guard, DHS.

ACTION: Notice of enforcement of regulation.

SUMMARY: The Coast Guard will enforce various safety zones for annual marine events in the Captain of the Port Detroit zone from 9 p.m. on June 19, 2014, through 11:59 p.m. on September 1, 2014. Enforcement of these zones is necessary and intended to ensure safety of life on the navigable waters immediately prior to, during, and immediately after these fireworks events. During the aforementioned period, the Coast Guard will enforce restrictions upon, and control movement of, vessels in a specified area immediately prior to, during, and immediately after fireworks events. During each enforcement period, no person or vessel may enter the respective safety zone without permission of the Captain of the Port.

DATES: The regulations in 33 CFR 165.941 will be enforced at various dates and times between 9 p.m. on June 19, 2014, through 11:59 p.m. on September 1, 2014.

FOR FURTHER INFORMATION CONTACT: If you have questions on this document, call or email LT Adrian Palomeque, Prevention, U.S. Coast Guard Sector Detroit, 110 Mount Elliot Ave., Detroit MI 48207; telephone (313) 568-9508; email Adrian.F.Palomeque@uscg.mil.

SUPPLEMENTARY INFORMATION: The Coast Guard will enforce the safety zones listed in 33 CFR 165.941, Safety Zones; Annual Events in the Captain of the Port Detroit Zone, at the following dates and times for the following events, which are listed in chronological order by date and time of the event:

(1) Bay-Rama Fishfly Festival Fireworks, New Baltimore, MI. The safety zone listed in 33 CFR 165.941(a)(29) will be enforced from 9 p.m. to 11 p.m. on June 19, 2014.

(2) Sigma Gamma Fireworks, Grosse Pointe Farms, MI.

The safety zone listed in 33 CFR 165.941(a)(51) will be enforced from 9:30 p.m. to 10:15 p.m. on June 23, 2014.

(3) Ford (formerly Target) Fireworks, Detroit, MI. The first safety zone, listed in 33 CFR 165.941(a)(50)(i)(A), on the waterfront area adjacent to 1351 Jefferson Avenue, Detroit, Michigan will be enforced from 8 a.m. on June 20, 2014 to 8 p.m. on June 23, 2014. In the case of inclement weather on June 23, 2014, the first safety zone will be enforced one additional day, from 8 a.m. on June 20, 2014 to 8 p.m. on June 24, 2014.

The second safety zone, listed in 33 CFR 165.941(a)(50)(i)(B), will be enforced from 8 p.m. to 11:55 p.m. on June 23, 2014. In the case of inclement weather on June 23, 2014, the second safety zone will be enforced from 8 p.m. to 11:55 p.m. on June 24, 2014.

The third safety zone listed in 33 CFR 165.941(a)(50)(i)(C) will be enforced from 6 p.m. to 11:55 p.m. on June 23, 2014. In the case of inclement weather on June 23, 2014, the third safety zone will be enforced from 6 p.m. to 11:55 p.m. on June 24, 2014.

(4) St. Clair Shores Fireworks, St. Clair Shores, MI. The safety zone listed in 33 CFR 165.941(a)(39) will be enforced from 10 p.m. to 10:45 p.m. on June 27, 2014. In the case of inclement weather on June 27, 2014, this safety zone will be enforced from 10 p.m. to 10:45 p.m. on June 28, 2014.

(5) Grosse Pointe Farms Fireworks, Grosse Pointe Farms, MI. The safety zone listed in 33 CFR 165.941(a)(35) will be enforced from 10 p.m. to 10:30 p.m. on June 28, 2014.

(6) Algonac Pickerel Tournament Fireworks, Algonac, MI. The safety zone listed in 33 CFR 165.941(a)(37) will be enforced from 10 p.m. to 10:30 p.m. on July 3, 2014. In the case of inclement weather on July 3, 2014, this safety zone will be enforced from 10 p.m. to 10:30 p.m. on July 5, 2014.

(7) Bay City Fireworks Festival, Bay City, MI. The safety zone listed in 33 CFR 165.941(a)(53) will be enforced from 10:05 p.m. to 10:55 p.m. on July 3, 4, and 5, 2014. In the case of inclement weather on any scheduled day, this safety zone will be enforced from 10:05 p.m. to 10:55 p.m. on July 6, 2014.

(8) Grosse Pointe Yacht Club 4th of July Fireworks, Grosse Pointe Shores, MI. The safety zone listed in 33 CFR 165.941(a)(41) will be enforced from 10 p.m. to 10:30 p.m. on July 4, 2014. In the case of inclement weather on July 4, 2014, this safety zone will be enforced from 10 p.m. to 10:30 p.m. on July 5, 2014.

(9) Port Austin Fireworks, Port Austin, MI. The safety zone listed in 33 CFR 165.941(a)(33) will be enforced from 10 p.m. to 10:30 p.m. on July 4, 2014.

(10) Lexington Independence Festival Fireworks, Lexington, MI. The safety zone listed in 33 CFR 165.941(a)(42) will be enforced from 10 p.m. to 10:30 p.m. on July 4, 2014. In the case of inclement weather on July 4, 2014, this safety zone will be enforced from 10 p.m. to 10:30 p.m. on July 5, 2015.

(11) Belle Maer Harbor 4th of July Fireworks, Harrison Township, MI. The safety zone listed in 33 CFR 165.941(a)(46) will be enforced from 10 p.m. to 10:30 p.m. on July 4, 2014. In the case of inclement weather on July 4, 2014, this safety zone will be enforced from 10 p.m. to 10:30 p.m. on July 5, 2014.

(12) Trenton Fireworks, Trenton, MI. The safety zone listed in 33 CFR 165.941(a)(45) will be enforced from 10 p.m. to 10:30 p.m. on July 4, 2014. In the case of inclement weather on July 4, 2014, this safety zone will be enforced from 10 p.m. to 10:30 p.m. on July 5, 2015.

(13) Port Sanilac Fireworks, Port Sanilac, MI. The safety zone listed in 33 CFR 165.941(a)(38) will be enforced from 10 p.m. to 10:30 p.m. on July 5, 2014.

(14) Au Gres City Fireworks, Au Gres, MI. The safety zone listed in 33 CFR 165.941(a)(3) will be enforced from 10 p.m. to 10:30 p.m. on July 5, 2014.

(15) Harrisville Fireworks, Harrisville, MI. The safety zone listed in 33 CFR 165.941(a)(7) will be enforced from 9:30 p.m. to 11:30 p.m. on July 5, 2014.

(16) Tawas City 4th of July Fireworks, Tawas City, MI. The safety zone listed in 33 CFR 165.941(a)(47) will be enforced from 10 p.m. to 11 p.m. on July 5, 2014.

(17) Nautical Mile Venetian Festival Fireworks, St. Clair Shores, MI. The safety zone listed in 33 CFR 165.941(a)(10) will be enforced from 10 p.m. to 10:30 p.m. on July 19, 2014. In the case of inclement weather on July 19, 2014, this safety zone will be enforced from 10 p.m. to 10:30 p.m. on July 20, 2014.

(18) Detroit International Jazz Festival Fireworks, Detroit, MI. The safety zone listed in 33 CFR 165.941(a)(12) will be enforced from 10 p.m. to 11:59 p.m. on August 30 and 31, 2014. In the case of inclement weather on either day, this safety zone will be enforced from 10 p.m. to 11:59 p.m. on September 1, 2014.

Under the provisions of 33 CFR 165.23, entry into, transiting, or anchoring within these safety zones during the enforcement period is prohibited unless authorized by the Captain of the Port Detroit or his designated representative. Vessels that wish to transit through the safety zones may request permission from the Captain of the Port Detroit or his designated representative. Requests must be made in advance and approved by the Captain of the Port before transits will be authorized. Approvals will be granted on a case by case basis. The Captain of the Port may be contacted via U.S. Coast Guard Sector Detroit on channel 16, VHF-FM. The Coast Guard will give notice to the public via Local Notice to Mariners and VHF radio broadcasts that the regulation is in effect.

This document is issued under authority of 33 CFR 165.941 and 5 U.S.C. 552(a). If the Captain of the Port determines that any of these safety zones need not be enforced for the full duration stated in this document, he or she may suspend such enforcement and notify the public of the suspension via a Broadcast Notice to Mariners.

Dated: June 3, 2014.
J.E. Ogden,
Captain, U. S. Coast Guard, Captain of the Port Detroit.

[FR Doc. 2014-14054 Filed 6-13-14; 8:45 am]

BILLING CODE 9110-04-P